DEPARTMENT OF HEALTH AND HUMAN SERVICES

National Advisory Committee on Seniors and Disasters: Establishment

AGENCY: Office of the Assistant Secretary for Preparedness and Response (ASPR), Department of Health and Human Services (HHS).

ACTION: Notice; correction.

SUMMARY: The Office of the Secretary has extended the application period for accepting application submissions from qualified individuals who wish to be considered for membership on the National Advisory Committee on Seniors and Disasters (NACSD). Up to seven new voting members with expertise in senior medical disaster planning, preparedness, response, or recovery will be selected for the Committee. Please visit the NACSD website at www.phe.gov/nacsd for all application submission information and instructions. Application submissions will be accepted until July 12, 2021.

Application Period: The application period has been extended and will now end on July 12, 2021.

FOR FURTHER INFORMATION CONTACT: Maxine Kellman, DVM, Ph.D., PMP, Designated Federal Official for National Advisory Committees, Washington, DC, Office (202) 260-0447 or email maxine.kellman@hhs.gov.

Corrections:

1. Correction to final notice published in the Federal Register on May 13, 2021 entitled “National Advisory Committee on Seniors and Disasters.”

Amendment to the application period which has been extended and applications will be accepted until July 12, 2021.

Karuna Seshasai,
Executive Secretary to the Department, U.S. Department of Health and Human Services.

[FR Doc. 2021-14053 Filed 6-30-21; 8:45 am]

BILLING CODE 4150-37-P